DEPARTMENT OF THE INTERIOR

Bureau of Land Management

[LLNML003100 L14300000.ES0000; NMNM 117441]

Notice of Realty Action; Recreation and Public Purposes (R&PP) Act Classification; New Mexico

AGENCY: Bureau of Land Management, Interior.

ACTION: Notice of realty action.

SUMMARY: The Bureau of Land Management (BLM) has examined approximately 639 acres of public land in Dona Ana County, New Mexico and found them suitable for classification for lease and/or conveyance under the provisions of the Recreation and Public Purposes (R&PP) Act, as amended. New Mexico State Parks Division proposes to incorporate the public land for additional trails and visitor education as part of the Mesilla Valley Bosque State Park in Dona Ana County, New Mexico.

DATES: Interested parties may submit written comments regarding the proposed lease/conveyance or classification of the land on or before September 8, 2009.

ADDRESSES: Written comments concerning this Notice should be addressed to: District Manager, BLM Las Cruces District Office, 1800 Marquess Street, Las Cruces, New Mexico 88005.

FOR FURTHER INFORMATION CONTACT: Lori Allen, Realty Specialist, at the above address or at (575) 525-4454.

SUPPLEMENTARY INFORMATION: In accordance with Section 7 of the Taylor Grazing Act (43 U.S.C. 315(f)), the following public land in Dona Ana County, New Mexico, has been examined and found suitable for classification for lease and/or conveyance to New Mexico State Parks under the provisions of the R&PP Act, as amended (43 U.S.C. 869 et seq.):

New Mexico Principal Meridian

T. 24 S., R. 1 E.,

Sec. 10, NE¼, N½SE¼, SE¼SE¼, NE¼SW¼SE¼, and N½SE¼SW¼SE¼;

Sec. 11, lots 7 to 10, inclusive, SW¼NW¼, NW¼SW¼, NE¼SW¼, SW¼SW¼, and N½SE¼SW¼, N½SW¼SE¼;

Sec. 12, lot 1;

Sec. 13, portions of lot 6 (the exact acreage and legal description will be determined by a cadastral survey);

Sec. 14, N½N½NE¼NE¼.

The area described contains 639 acres, more or less, in Dona Ana County, New Mexico.

The portion of land identified in Section 13 is currently under a withdrawal to the Bureau of Reclamation (BOR). The BOR has submitted a partial withdrawal revocation request to the Las Cruces District Office. A cadastral survey is necessary to delineate the portion that would be revoked. Once returned to the BLM, this parcel of land could then be leased and/or conveyed to New Mexico State Parks through the R&PP Act. This Notice acts as the public notice for all parcels.

In accordance with the R&PP Act, New Mexico State Parks proposes to construct a park for the purpose of meeting recreational needs for the community of Las Cruces. Additional detailed information pertaining to this application, plan of development, and site plans are in case file NMNM 117441 located in the BLM Las Cruces District Office. Lease and/or conveyance of the land to New Mexico State Parks is consistent with the Mimbres Resource Management Plan, dated December 1993, and would be in the public interest. New Mexico State Parks has not applied for more than the 6,400-acre limitation for recreation use in a year and has submitted a statement in compliance with the regulation at 43 CFR 2741.4(b).

The lease and/or conveyance, when issued, will be subject to the following terms, conditions, and reservations:

1. Provisions of the R&PP Act and all applicable regulations of the Secretary of the Interior, including, but not limited to, the terms required by 43 CFR 2741.9.

2. A right-of-way for ditches and canals constructed by the authority of the United States, Act of August 30, 1890 (43 U.S.C. 945).

3. Lease and/or patent of the public land shall be subject to valid existing rights. Subject to limitations prescribed by law and regulation, prior to patent issuance, a holder of any right-of-way within the lease area may be given the opportunity to amend the right-of-way for conversion to a new term, including perpetuity, if applicable.

4. All minerals shall be reserved to the United States, together with the right to prospect for, mine, and remove the minerals.

5. Any other reservations that the authorized officer determines appropriate to ensure public access and proper management of Federal land and interests therein.

6. An appropriate indemnification clause protecting the United States from claims arising out of the lessee/patentee's use, occupancy, or operations on the property.

Detailed information concerning this proposed project, including, but not limited to documentation relating to compliance with applicable environmental and cultural resource laws, is available for review at the address above.

On July 23, 2009, the land described above will be segregated from all other forms of appropriation under the public land laws, including the general mining laws, except for lease and/or conveyance under the R&PP Act, and leasing under the mineral leasing laws.

Interested parties may submit comments involving the suitability of the land for the proposed park. Comments on the classification are restricted to whether the land is physically suited for the proposal, where the use will maximize the future use or uses of the land, whether the use is consistent with local planning and zoning, or if the use is consistent with State and Federal programs.

Interested parties may submit comments regarding the specific use proposed in the application and plan of development, whether the BLM followed proper administrative procedures in reaching the decision, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective September 21, 2009. The land will not be available for lease or conveyance until after the classification becomes effective.

(Authority: 43 CFR 2741.5)

Bill Childress,
District Management.

[FR Doc. E9-17570 Filed 7-22-09; 8:45 am]

BILLING CODE 4310-FB-P